DEPARTMENT OF COMMERCE

International Trade Administration

Solicitation of Nominations for Membership on the Civil Nuclear Trade Advisory Committee

AGENCY: International Trade Administration, DOC.

ACTION: Notice.

SUMMARY: The Department of Commerce is currently seeking nominations for membership on the Civil Nuclear Trade Advisory Committee (CINTAC). The purpose of the CINTAC is to advise the Secretary regarding the development and administration of programs to expand United States exports of civil nuclear goods and services in accordance with applicable United States regulations.

DATES: Nominations for members must be received on or before Tuesday, October 12, 2010.

ADDRESSES: All nominations should be submitted either via e-mail to civilnuclear@trade.gov, or via mail to Frank Caliva, Office of Energy & Environmental Industries, Room 4053, U.S. Department of Commerce, 14th Street and Constitution Avenue, NW., Washington, DC 20230.

FOR FURTHER INFORMATION CONTACT: Frank Caliva, Office of Energy & Environmental Industries, Room 4407, U.S. Department of Commerce, 14th Street and Constitution Avenue, NW., Washington, DC 20230; phone 202-482-8245; fax 202-482-5665; e-mail civilnuclear@trade.gov.

SUPPLEMENTARY INFORMATION: The Department of Commerce is in the process of renewing the CINTAC charter for another two-year term. The Secretary of Commerce invites nominations to the CINTAC for the upcoming two-year charter term. Members will be selected, in accordance with applicable Department of Commerce guidelines, based on their ability to advise the Secretary of Commerce on matters relating to the development and administration of programs to expand United States exports of civil nuclear goods and services, as articulated in the CINTAC's charter. Members of the CINTAC shall be selected in a manner that ensures that the CINTAC is balanced in terms of points of view, company size, and geographic location, and that the CINTAC shall include representatives of U.S. civil nuclear manufacturing and services companies, U.S. utilities, U.S. trade associations, and U.S. private sector organizations involved in the promotion of exports of civil nuclear products and services.

Members shall serve in a representative capacity, expressing the views and interests of a U.S. entity or organization, as well as its particular sector. Each member of the Committee must be a U.S. citizen, not a federally-registered lobbyist, and not registered as a foreign agent under the Foreign Agents Registration Act. No member may represent a company that is majority owned or controlled by a foreign government entity.

Self-nominations will be accepted. If you are interested in nominating someone to become a member of the Committee, please provide the following information (2 pages maximum):

(1) Name.

(2) Title.

(3) Work phone number; fax number; and email address.

(4) Company or trade association name and address including website address.

(5) Short biography of nominee including credentials.

(6) Brief description of the company or trade association and its business activities; company size (number of employees and annual sales); and export markets served.

(7) An affirmative statement that the applicant is not required to register as a foreign agent under the Foreign Agents Registration Act of 1938, as amended.

(8) An affirmative statement that the applicant is not a federally-registered lobbyist, and that the applicant understands that if appointed, the applicant will not be allowed to continue to serve as a CINTAC member if the applicant becomes a federally registered lobbyist.

Please do not send company or trade association brochures or any other information.

All nominations should be submitted either via e-mail to civilnuclear@trade.gov, or via mail to Frank Caliva, Office of Energy & Environmental Industries, Room 4053, U.S. Department of Commerce, 14th Street and Constitution Avenue, NW., Washington, DC 20230 and must be received by the deadline of Tuesday, October 12, 2010. Nominees selected for appointment to the Committee will be notified by return mail.

Dated: September 14, 2010.
Edward A. O'Malley,
Director, Office of Energy & Environmental Industries.

[FR Doc. 2010-23353 Filed 9-17-10; 8:45 am]

BILLING CODE 3510-DR-P